POSTAL SERVICE

Product Change—Priority Mail Negotiated Service Agreement

AGENCY: Postal Service™.

ACTION: Notice.

SUMMARY: The Postal Service gives notice of filing a request with the Postal Regulatory Commission to add a domestic shipping services contract to the list of Negotiated Service Agreements in the Mail Classification Schedule's Competitive Products List.

DATES: Date of required notice: August 15, 2018.

FOR FURTHER INFORMATION CONTACT: Elizabeth Reed, 202-268-3179.

SUPPLEMENTARY INFORMATION: The United States Postal Service® hereby gives notice that, pursuant to 39 U.S.C. 3642 and 3632(b)(3), on August 9, 2018, it filed with the Postal Regulatory Commission a USPS Request to Add Priority Mail Contract 461 to Competitive Product List. Documents are available at www.prc.gov, Docket Nos. MC2018-205, CP2018-285.

Elizabeth Reed,
Attorney, Corporate and Postal Business Law.

[FR Doc. 2018-17501 Filed 8-14-18; 8:45 am]

BILLING CODE 7710-12-P